SMALL BUSINESS ADMINISTRATION

[License No. 01/01-0433]

Gemini Investors VI, L.P.; Notice Seeking Exemption Under Section 312 of the Small Business Investment Act, Conflicts of Interest

Notice is hereby given that Gemini Investors VI, L.P., 20 William Street, Wellesley, MA 02481, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Gemini Investors VI, L.P. proposes to provide equity financing to finance the acquisition of New Era, Inc., 208 Carter Drive, West Chester, PA 19382.

The financing is brought within the purview of § 107.730 of the Regulations because Gemini Investors V, L.P., an Associate of Gemini Investors VI, L.P., owns more than ten percent of New Era, Inc. Also, the proposed investment by Gemini Investors VI, L.P. will be part of a larger pool of funds to cash out existing shareholders, one of which is its Associate Gemini Investors V, L.P. Lastly, Associates of Gemini Investors V, L.P. currently serve on the board of directors of New Era, Inc.

Therefore, this transaction is considered a financing of an Associate and a self-deal pursuant to 13 CFR 107.730 and requires an exemption. Notice is hereby given that any interested person may submit written comments on the transaction within fifteen days of the date of this publication to Associate Administrator for Investment, U.S. Small Business Administration, 409 Third Street SW, Washington, DC 20416.

Dated: October 10, 2019.
A. Joseph Shepard,
Associate Administrator for Investment.

[FR Doc. 2019-22911 Filed 10-18-19; 8:45 am]

BILLING CODE P